DEPARTMENT OF DEFENSE

Office of the Secretary

[Docket ID DoD-2009-OS-0126]

Privacy Act of 1974; System of Records

AGENCY: Office of the Secretary, DoD.

ACTION: Notice to Alter a System of Records.

SUMMARY: The Office of the Secretary of Defense proposes to alter a system of records to its inventory of record systems subject to the Privacy Act of 1974 (5 U.S.C. 552a), as amended.

DATES: This proposed action would be effective without further notice on September 18, 2009 unless comments are received which result in a contrary determination.

ADDRESSES: Send comments to Chief, OSD/JS Privacy Office, Freedom of Information Directorate, Washington Headquarters Services, 1155 Defense Pentagon, Washington, DC 20301-1155.

FOR FURTHER INFORMATION CONTACT: Ms. Cindy Allard at (703) 588-6830.

SUPPLEMENTARY INFORMATION: The Office of the Secretary of Defense notices for systems of records subject to the Privacy Act of 1974 (5 U.S.C. 552a), as amended, have been published in the Federal Register and are available from the address above.

The proposed system report, as required by 5 U.S.C. 552a(r) of the Privacy Act of 1974, as amended, was submitted on August 5, 2009, to the House Committee on Oversight and Government Reform, the Senate Committee on Governmental Affairs, and the Office of Management and Budget (OMB) pursuant to paragraph 4c of Appendix I to OMB Circular No. A-130, `Federal Agency Responsibilities for Maintaining Records About Individuals,' dated February 8, 1996 (February 20, 1996, 61 FR 6427).

Dated: August 12, 2009.
Patricia L. Toppings,
OSD Federal Register Liaison Officer, Department of Defense.

DWHS E06

System name:

Correspondence Control System (July 2, 2009, 74 FR 31712) Changes:

* * * * *

System name:

Delete entry and replace with “Enterprise Correspondence Control System (ECCS).”

* * * * *

Categories of individuals covered by the system:

Delete existing entry and replace with “Members of the public who initiated communications with the Office of the Secretary of Defense and Department of Defense personnel (uniformed or civilian) for whom workforce and/or organizational actions are processed and coordinated in the Enterprise Correspondence Control System.”

Categories of records in the system:

Delete entry and replace with “Name, Social Security Number (SSN), date and place of birth, pay grade, salary and contact information (mailing address, telephone number, fax number, email address). Inquiries and other communications pertaining to any matter under the cognizance of the Office of the Secretary of Defense. Record types may include, but are not limited to, complaints, appeals, grievances; personnel actions, assignment requests, awards, nominations and presidential support letters; condolence letters, retirement letters, letters of appreciation, Senior Executive Service letters and pay adjustments; certificates, Secretary of Defense and OSD Component letters of appreciation; travel requests and military airlift requests; evaluative data; actions taken and responses from the Secretary to the President, White House staff, other Cabinet officials, Congress, state, local officials, and corporate officials; and similar documents.”

Authority for maintenance of the system:

Delete existing entry and replace with “5 U.S.C. 301, Departmental Regulations; DoD Directive 5110.4, Washington Headquarters Services (WHS); and E.O. 9397 (SSN), as amended.”

Purpose(s):

Delete existing entry and replace with “The Enterprise Correspondence Control System (ECCS) comprises two sub-systems (the Correspondence Control System (CCS) and the Staff Action Control and Coordination Portal (SACCP)).

CCS supports the Secretary of Defense by tracking actions taken and responses from the Secretary to the President, White House staff, other Cabinet officials, Congress, state and local officials, corporate officials, members of the Department of Defense and the public.

SACCP is used by Component Offices of the Secretary of Defense to facilitate and control the processing and coordination of workforce and/or organizational actions to, from, and within components in conduct of official daily business.”

* * * * *

DWHS E06

System name:

Enterprise Correspondence Control System (ECCS).

System location:

Correspondence Control Division, Executive Services Directorate, Washington Headquarters Services, Room 3C843, 1155 Defense Pentagon, Washington, DC 20301-1155.

Categories of individuals covered by the system:

Members of the public who initiated communications with the Office of the Secretary of Defense and Department of Defense personnel (uniformed or civilian) for whom workforce and/or organizational actions are processed and coordinated in the Enterprise Correspondence Control System.

Categories of records in the system:

Name, Social Security Number (SSN), date and place of birth, pay grade, salary and contact information (mailing address, telephone number, fax number, email address). Inquiries and other communications pertaining to any matter under the cognizance of the Office of the Secretary of Defense. Record types may include, but are not limited to, complaints, appeals, grievances; personnel actions, assignment requests, awards, nominations and presidential support letters; condolence letters, retirement letters, letters of appreciation, Senior Executive Service letters and pay adjustments; certificates, Secretary of Defense and OSD Component letters of appreciation; travel requests and military airlift requests; evaluative data; actions taken and responses from the Secretary to the President, White House staff, other Cabinet officials, Congress, state, local officials, and corporate officials; and similar documents.

Authority for maintenance of the system:

5 U.S.C. 301, Departmental Regulations; DoD Directive 5110.4, Washington Headquarters Services (WHS); and E.O. 9397 (SSN), as amended.

Purpose(s):

The Enterprise Correspondence Control System (ECCS) comprises two sub-systems (the Correspondence Control System (CCS) and the Staff Action Control and Coordination Portal (SACCP)).

CCS supports the Secretary of Defense by tracking actions taken and responses from the Secretary to the President, White House staff, other Cabinet officials, Congress, state and local officials, corporate officials, members of the Department of Defense and the public.

SACCP is used by Component Offices of the Secretary of Defense to facilitate and control the processing and coordination of workforce and/or organizational actions to, from, and within components in conduct of official daily business.

Routine uses of records maintained in the system, including categories of users and the purposes of such uses: In addition to those disclosures generally permitted under 5 U.S.C. 552a(b) of the Privacy Act of 1974, these records may specifically be disclosed outside the Department of Defense as a routine use pursuant to 5 U.S.C. 552a(b)(3) as follows:

The DoD `Blanket Routine Uses' set forth at the beginning of the OSD's compilation of systems of records notices apply to this system.

Policies and practices for storing, retrieving, accessing, retaining, and disposing of records in the system:

Storage:

Maintained in paper files and electronic storage media.

Retrievability:

Last name and first name initial of the individual, subject and date of the document.

Safeguards:

Records are maintained in a controlled facility. Physical entry is restricted by the use of locks, guards, and is accessible only to authorized personnel. Access to records is limited to person(s) responsible for servicing the record in performance of their official duties and who are properly screened and cleared for need-to-know. Access to computerized data is restricted by Common Access Card (CAC).

Retention and disposal:

Records are cut off annually and destroyed when 7 years old.

System manager(s) and address:

Chief, Correspondence Control Division, Executive Services Directorate, Washington Headquarters Services, 1155 Defense Pentagon, Washington, DC 20301-1155.

Notification procedure:

Individuals seeking to determine whether information about themselves is contained in this system should address written inquiries to the Chief, Correspondence Control Division, Executive Services Directorate, Washington Headquarters Services, Room 3C843, 1155 Defense Pentagon, Washington, DC 20301-1155.

The requests should contain the individual's last name, first name initial, subject and document date.

Record access procedures:

Individuals seeking access to records about themselves contained in this system of records should address written inquiries to the Office of the Secretary of Defense/Joint Staff Freedom of Information Act, Requester Service Center, Office of Freedom of Information, 1155 Defense Pentagon, Washington, DC 20301-1155.

Individuals should provide the name and number of this system of records notice, the individual's last name, first name initial, subject, date of document and be signed.

Contesting record procedures:

The Office of the Secretary of Defense rules for accessing records, for contesting contents and appealing initial agency determinations are published in Office of the Secretary of Defense Administrative Instruction 81; 32 CFR part 311; or may be obtained from the system manager.

Record source categories:

Individuals and those writing on their behalf, and official records.

Exemptions claimed for the system:

During the course of preparing a response to some types of incoming communications from the public, exempt materials from other systems of records may in turn become part of the case records in this system. To the extent that copies of exempt records from those `other' systems of records are entered into this correspondence case record, the Office of the Secretary of Defense hereby claims the same exemptions for the records from those `other' systems that are entered into this system, as claimed for the original primary systems of records which they are a part.

Records are only exempt from pertinent provisions of 5 U.S.C. 552a to the extent such provisions have been identified and an exemption claimed for the original record and the purposes underlying the exemption for the original record still pertain to the record which is now contained in this system of records. In general, the exemptions were claimed in order to protect properly classified information relating to national defense and foreign policy, to avoid interference during the conduct of criminal, civil, or administrative actions or investigations, to ensure protective services provided the President and others are not compromised, to protect the identity of confidential sources incident to Federal employment, military service, contract, and security clearance determinations, to preserve the confidentiality and integrity of Federal testing materials, and to safeguard evaluation materials used for military promotions when furnished by a confidential source. The exemption rule for the original records will identify the specific reasons why the records are exempt from specific provisions of 5 U.S.C. 552a.

An exemption rule for this system has been promulgated in accordance with requirements of 5 U.S.C. 553(b)(1), (2), and (3), (c), and (e) and published in 32 CFR part 311. For additional information contact the system manager.

[FR Doc. E9-19867 Filed 8-18-09; 8:45 am]

BILLING CODE 5001-06-P